DEPARTMENT OF ENERGY

Federal Energy Regulatory Commission

[Project Nos. 13226-003; 13368-002]

Blue Heron Hydro LLC; Notice of Availability of Environmental Assessment

In accordance with the National Environmental Policy Act of 1969 and the Federal Energy Regulatory Commission (Commission) regulations, 18 CFR part 380 (Order No. 486, 52 FR 47897), the Office of Energy Projects has reviewed the applications for original licenses for the Ball Mountain Dam Hydroelectric Project (FERC Project No. 13226-003) and the Townshend Dam Hydroelectric Project (FERC Project No. 13368-002). The Ball Mountain Dam Hydroelectric Project is proposed to be located on the West River near the town of Jamaica in Windham County, Vermont, at the U.S. Army Corps of Engineers' (Corps) Ball Mountain Dam. The Townshend Dam Hydroelectric Project is proposed to be located West River in the town of Townshend in Windham County, Vermont, at the Corps' Townshend Dam.

Staff prepared a multi-project environmental assessment (EA), which analyzes the potential environmental effects of licensing the projects, and concludes that licensing the projects, with appropriate environmental protection measures, would not constitute a major federal action that would significantly affect the quality of the human environment.

A copy of the EA is available for review at the Commission in the Public Reference Room or may be viewed on the Commission's Web site at www.ferc.gov using the “eLibrary” link. Enter the docket, excluding the last three digits for each docket number, in the docket number field to access the document. For assistance, contact FERC Online Support at FERCOnlineSupport@ferc.gov; toll-free at 1-(866) 208-3676, or for TTY, (202) 502-8659.

You may also register online at www.ferc.gov/docs-filing/ferconline.asp to be notified via email of new filings and issuances related to these or other pending projects. For assistance, contact FERC Online Support.

Any comments should be filed within 30 days from the date of this notice. Comments may be filed electronically via the Internet. See 18 CFR 385.2001(a)(1)(iii) and the instructions on the Commission's Web site http://www.ferc.gov/doc-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426. Please affix Ball Mountain Dam Hydroelectric Project, P-13226-003 and/or Townshend Dam Hydroelectric Project, P-13368-002 to all comments.

For further information, contact Dr. Nicholas Palso at (202) 502-8854 or by email at nicholas.palso@ferc.gov.

Dated: December 20, 2011.
Kimberly D. Bose,
Secretary.

[FR Doc. 2011-33075 Filed 12-23-11; 8:45 am]

BILLING CODE 6717-01-P